ENVIRONMENTAL PROTECTION AGENCY

40 CFR Part 52

[EPA-R03-OAR-2010-0525; FRL-9206-4]

Approval and Promulgation of Air Quality Implementation Plans; Maryland; Control Technique Guidelines for Paper, Film, and Foil Coatings

AGENCY: Environmental Protection Agency (EPA).

ACTION: Direct final rule.

SUMMARY: EPA is taking direct final action to approve a State Implementation Plan (SIP) revision submitted by the State of Maryland. This SIP revision pertains to the control of volatile organic compound (VOC) emissions from paper, film, and foil coatings. Specifically, Maryland is amending its regulations by adopting the requirements of EPA's Control Technique Guidelines (CTG) for Paper, Film, and Foil Coatings. These amendments will reduce VOC emissions from this source category. This action is being taken in accordance with the requirements of the Clean Air Act (CAA).

DATES: This rule is effective on November 26, 2010 without further notice, unless EPA receives adverse written comment by October 27, 2010. If EPA receives such comments, it will publish a timely withdrawal of the direct final rule in the Federal Register and inform the public that the rule will not take effect.

ADDRESSES: Submit your comments, identified by Docket ID Number EPA-R03-OAR-2010-0525 by one of the following methods:

A. http://www.regulations.gov. Follow the on-line instructions for submitting comments.

B. E-mail: pino.maria@epa.gov.

C. Mail: EPA-R03-OAR-2010-0525, Maria A. Pino, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2010-0525. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov, index. Although listed in the index, some information is not publicly available, i.e., CBI or other information whose disclosure is restricted by statute. Certain other material, such as copyrighted material, is not placed on the Internet and will be publicly available only in hard copy form. Publicly available docket materials are available either electronically in http://www.regulations.gov, or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Ellen Wentworth, (215) 814-2034, or by e-mail at wentworth.ellen@epa.gov.

SUPPLEMENTARY INFORMATION:

I. Background

Throughout this document, whenever “we,” “us,” or “our” is used, we mean EPA.

On April 23, 2010, the Maryland Department of the Environment (MDE) submitted a formal revision to its SIP. This SIP revision (#10-02) consists of amendments to Regulation .07, Paper, Fabric, Vinyl and Other Plastic Parts Coating, under the Code of Maryland Regulations (COMAR) 26.11.19, Control of VOC from Specific Processes. These amendments are necessary since Maryland has adopted the recommendations contained in EPA's CTG (EPA 453/R-07-003, September 2007), for Paper, Film, and Foil Coatings for the control of VOC emissions from this source category.

Section 172(c)(1) of the CAA provides that SIPs for nonattainment areas must include reasonably available control measures (RACM), including reasonably available control technology (RACT) for sources of emissions. Section 182(b)(2) provides that States must revise their ozone SIP to include RACT for VOC sources covered by any CTG document issued after November 15, 1990, and prior to the date of attainment. EPA defines RACT as “the lowest emission limitation that a particular source is capable of meeting by the application of control technology that is reasonably available considering technological and economic feasibility” (44 FR 53761, September 17, 1979). In subsequent Federal Register notices, EPA has addressed how States can meet the RACT requirements of the CAA. EPA provides States with guidance concerning what types of controls could constitute RACT for a given source category through issuance of a CTG. The recommendations in the CTG are based on available data and information and may not apply to a particular situation based upon the circumstances. The State of Maryland has adopted the recommendations contained in the September 2007 (EPA 453/R-07-003) CTG for Paper, Film, and Foil Coatings as RACT for this source category. The paper, film, and foil coatings product category includes coatings that are applied to paper, film, or foil surfaces in the manufacturing of several major product types for the following industry sectors: pressure sensitive tape and labels (including fabric coated for use in pressure sensitive tapes and labels), photographic film, industrial and decorative laminates, abrasive products (including fabric coated for use in abrasive products), and flexible packaging (including coating of non-woven polymer substrates for use in flexible packaging). The category also includes coatings applied during miscellaneous coating operations for several products including: corrugated and solid fiber boxes, die-cut paper paperboard, and cardboard, converted paper and paperboard not elsewhere classified, folding paperboard boxes, including sanitary boxes, manifold business forms and related products, plastic asceptic packaging, and carbon paper and inked ribbons. Coatings performed on or in-line with any offset lithographic, screen, letterpress, flexographic, rotogravure, or digital printing press is not part of the paper, film, and foil coating category.

II. Summary of SIP Revision

The amendments to Regulation .07 of COMAR 26.11.19 consist of revisions to the existing sections .07A—Definitions, and .07B—Applicability, and the addition of a new Section D—Emission Standards for Paper, Film, and Foil Product Coatings with VOC Emissions (Potential to Emit) of 25 Tons or Greater Per Year. Since Maryland adopted the recommendations contained in EPA's 2007 CTG for Paper, Film, and Foil Coatings, these revisions to the Maryland SIP are necessary. Specifically, the amendment to COMAR 26.11.19.07A—Definitions, adds the following definitions used in the substantive provisions of the regulation: coating line, coating solids applied, flash-off area, paper, film, and foil product, paper, film, and foil product coating, and pressure sensitive tape and label surface coating. COMAR 26.11.19.07, section .07B—Applicability, has been revised to reflect the applicability requirements which are specific to coating lines that have the potential to emit 25 tons per year (tpy) or greater of VOC from this source category. Sources subject to this regulation may either meet VOC emission limits or use an add-on emission control device to reduce VOC emissions by 90 percent. In addition, the SIP revision amends COMAR 26.11.19.07 by adding a new Section .07D—Emission Standards for Paper, Film, and Foil Product Coatings with VOC Emissions (Potential to Emit) of 25 Tons or Greater Per Year which contains the emissions standards and air pollution control equipment requirements for this source category. Specifically, a person who meets the applicability level in Section B of MDE's regulation shall: (a) Use add-on air pollution control equipment to reduce VOCs from the coating line by an overall capture and control efficiency of at least 90 percent, by weight, or (b) meet the following emission standards for each coating line installation:

Paper, film, and foil coatings | Emission standard (ratio): lb VOC/lb solids or kg VOC/kg solids | Emission standard (ratio): lb VOC/lb coating or kg VOC/kg coating
Paper Film, and Foil Coating other than a Pressure Sensitive Tape and Label Surface Coating | 0.40 | 0.08
Pressure Sensitive Tape and Label Surface Coating | 0.20 | 0.06

III. Final Action

EPA is approving the amendments to COMAR 26.11.19.07, “Volatile Organic Compounds from Specific Processes,” submitted by MDE on April 23, 2010 because they meet the recommendations for RACT contained in EPA's September, 2007 CTG for Paper, Film, and Foil Coatings. Implementation of these amendments will result in additional reductions of VOC emissions from this source category. EPA is publishing this rule without prior proposal because the Agency views this as a noncontroversial amendment and anticipates no adverse comment. However, in the “Proposed Rules” section of today's Federal Register, EPA is publishing a separate document that will serve as the proposal to approve the SIP revision if adverse comments are filed. This rule will be effective on November 26, 2010 without further notice unless EPA receives adverse comment by October 27, 2010. If EPA receives adverse comment, EPA will publish a timely withdrawal in the Federal Register informing the public that the rule will not take effect. EPA will address all public comments in a subsequent final rule based on the proposed rule. EPA will not institute a second comment period on this action. Any parties interested in commenting must do so at this time.

IV. Statutory and Executive Order Reviews

A. General Requirements

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the Clean Air Act, petitions for judicial review of this action must be filed in the United States Court of Appeals for the appropriate circuit by November 26, 2010. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action pertaining to Maryland's adoption of the CTG standards for paper, film, and foil coatings may not be challenged later in proceedings to enforce its requirements. (See section 307(b)(2).)

List of Subjects in 40 CFR Part 52

Environmental protection, Air pollution control, Incorporation by reference, Ozone, Reporting and recordkeeping requirements, Volatile organic compounds.

Dated: September 7, 2010.
W.C. Early,
Acting Regional Administrator, Region III.

40 CFR part 52 is amended as follows:

PART 52—[AMENDED]

1. The authority citation for part 52 continues to read as follows:

Authority: 42 U.S.C. 7401 et seq.

Subpart V—Maryland

2. In § 52.1070, the table in paragraph (c) is amended by revising the entry for COMAR 26.11.19.07 to read as follows:

§ 52.1070 Identification of plan.

* * * * *

(c) * * *

EPA-Approved Regulations in the Maryland SIP
Code of Maryland Administrative Regulations (COMAR) citation | Title/subject | State effective date | EPA approval date | Additional explanation/citation at 40 CFR 52.1100
* * * * * * *
26.11.19 Volatile Organic Compounds From Specific Processes
* * * * * * *
26.11.19.07 | Paper, fabric, vinyl and other plastic parts coating | 4/19/10 | 9/27/10 [Insert page number where the document begins] | Revisions to Section .07A, .07B and the addition of new Section .07D.
* * * * * * *

* * * * *

[FR Doc. 2010-23980 Filed 9-24-10; 8:45 am]

BILLING CODE 6560-50-P